FEDERAL RESERVE SYSTEM

Change in Bank Control Notices; Formations of, Acquisitions by, and Mergers of Bank Holding Companies; Correction

This notice corrects a notice (FR Doc. 2014-09225) published on page 22682 of the issue for Wednesday, April 23, 2014.

Under the Federal Reserve Bank of Dallas heading, the entry for Central Texas Financial Corp., Cameron, Texas, is revised to read as follows:

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act.

A. Federal Reserve Bank of Dallas (E. Ann Worthy, Vice President) 2200 North Pearl Street, Dallas, Texas 75201-2272:

1. Central Texas Financial Corp., Cameron, Texas; to acquire 100 percent of the voting shares of Citcamco Incorporated, and indirectly acquire Peoples Finance Company, both in Cameron, Texas, and thereby engage in extending credit and servicing loans, pursuant to section 225.28(b)(1).

Comments on this application must be received by May 8, 2014.

Board of Governors of the Federal Reserve System, April 24, 2014.
Michael J. Lewandowski,
Associate Secretary of the Board.

[FR Doc. 2014-09704 Filed 4-28-14; 8:45 am]

BILLING CODE 6210-01-P